DEPARTMENT OF THE TREASURY

Bureau of Alcohol, Tobacco and Firearms

27 CFR Parts 20, 21 and 22

[T.D. ATF-435]

RIN 1512-AC13

Delegation of Authority for Parts 20, 21 and 22

AGENCY: Bureau of Alcohol, Tobacco and Firearms (ATF), Treasury.

ACTION: Treasury decision, final rule.

SUMMARY: This final rule places all ATF authorities contained in parts 20, 21 and 22, title 27 Code of Federal Regulations (CFR), with the “appropriate ATF officer” and requires that persons file documents required by such parts, with the “appropriate ATF officer” or in accordance with the instructions for the ATF form. Also, this final rule removes the definitions of, and references to, specific officers subordinate to the Director and the word “region.” Concurrently with this Treasury Decision, ATF Order 1130.9 is being published. Through this order, the Director has delegated all of the authorities in 27 CFR parts 20, 21 and 22 to the appropriate ATF officers and specified the ATF officers with whom applications, notices and other reports, which are not ATF forms, are filed.

EFFECTIVE DATE: This rule is effective January 19, 2001.

FOR FURTHER INFORMATION CONTACT: Robert Ruhf, Regulations Division, Bureau of Alcohol, Tobacco and Firearms, 650 Massachusetts Avenue, NW., Washington, DC 20226 (telephone 202-927-8210 or e-mail to alctob@atfhq.atf.treas.gov).

SUPPLEMENTARY INFORMATION:

Background

Pursuant to Treasury Order 120-01 (formerly 221), dated June 6, 1972, the Secretary of the Treasury delegated to the Director of the Bureau of Alcohol, Tobacco and Firearms (ATF), the authority to enforce, among other laws, the provisions of chapter 51 of the Internal Revenue Code of 1986 (IRC). The Director has subsequently redelegated certain of these authorities to appropriate subordinate officers by way of various means, including by regulation, ATF delegation orders, regional directives, or similar delegation documents. As a result, to ascertain what particular officer is authorized to perform a particular function under chapter 51, each of these various delegation instruments must be consulted. Similarly, each time a delegation of authority is revoked or redelegated, each of the delegation documents must be reviewed and amended as necessary.

ATF has determined that this multiplicity of delegation instruments complicates and hinders the task of determining which ATF officer is authorized to perform a particular function. ATF also believes these multiple delegation instruments exacerbate the administrative burden associated with maintaining up-to-date delegations, resulting in an undue delay in reflecting current authorities.

Accordingly, this final rule rescinds all authorities of the Director in parts 20, 21 and 22 that were previously delegated and places those authorities with the “appropriate ATF officer.” All of the authorities of the Director that were not previously delegated are also placed with the “appropriate ATF officer.” Along with this final rule, ATF is publishing ATF Order 1130.9, Delegation Order—Delegation of the Director's Authorities in 27 CFR Parts 20, 21 and 22, Distilled Spirits Plants, which delegates certain of these authorities to the appropriate organizational level. The effect of these changes is to consolidate all delegations of authority in parts 20, 21 and 22 into one delegation instrument. This action both simplifies the process for determining what ATF officer is authorized to perform a particular function and facilitates the updating of delegations in the future. As a result, delegations of authority will be reflected in a more timely and user-friendly manner.

In addition, this final rule also eliminates all references in the regulations that identify the ATF officer with whom an ATF form is filed. This is because ATF forms will indicate the officer with whom they must be filed. Similarly, this final rule also amends parts 20, 21 and 22 to provide that the submission of documents other than ATF forms (such as letterhead applications, notices and reports) must be filed with the “appropriate ATF officer” identified in ATF Order 1130.9. These changes will facilitate the identification of the officer with whom forms and other required submissions are filed.

This final rule also makes various technical amendments to parts 20, 21 and 22 of Title 27 of the Code of Federal Regulations. First, new sections are added in each part to recognize the authority of the Director to delegate regulatory authorities and to identify ATF Order 1130.9 as the instrument reflecting such delegations. Second, § 20.21, 21.2, 22.21 of Title 27 of the Code of Federal Regulations are amended to provide that the instructions for an ATF form identify the ATF officer with whom it must be filed. Third, this rule removes from part 22 of Title 27 of the Code of Federal Regulations the definition of the term “delegate.” This term is used only in the definition of Secretary in part 22 of Title 27 of the Code of Federal Regulations. We have removed the definition of “delegate” to be consistent with most other parts of Title 27 of the Code of Federal Regulations and to minimize potential confusion and misunderstanding with the appropriate ATF officers to whom the Director has delegated authority.

ATF has begun to make similar changes in delegations to all other parts of Title 27 of the Code of Federal Regulations through separate rulemakings. By amending the regulations part by part, rather than in one large rulemaking document and ATF Order, ATF minimizes the time expended in notifying interested parties of current delegations of authority.

Paperwork Reduction Act

The provisions of the Paperwork Reduction Act of 1995, Pub. L. 104-13, 44 U.S.C. Chapter 35, and its implementing regulations, 5 CFR part 1320, do not apply to this final rule because there are no new or revised recordkeeping or reporting requirements.

Regulatory Flexibility Act

Because no notice of proposed rulemaking is required for this rule, the provisions of the Regulatory Flexibility Act (5 U.S.C. 601 et seq.) do not apply. A copy of this final rule was submitted to the Chief Counsel for Advocacy of the Small Business Administration in accordance with 26 U.S.C. 7805(f). No comments were received.

Executive Order 12866

It has been determined that this rule is not a significant regulatory action because it will not: (1) Have an annual effect on the economy of $100 million or more or adversely affect in a material way the economy, a sector of the economy, productivity, competition, jobs, the environment, public health or safety, or State, local or tribal governments or communities; (2) Create a serious inconsistency or otherwise interfere with an action taken or planned by another agency; (3) Materially alter the budgetary impact of entitlements, grants, user fees, or loan programs or the rights and obligations of recipients thereof; or (4) Raise novel legal or policy issues arising out of legal mandates, the President's priorities, or the principles set forth in Executive Order 12866.

Administrative Procedure Act

Because this final rule merely makes technical amendments and conforming changes to improve the clarity of the regulations, we can issue this final rule without the notice and public procedure under 5 U.S.C. 553(b). For these same reasons, we are issuing this final rule effective on the same date of its publication in the Federal Register. This final rule is not subject to the effective date limitation of 5 U.S.C. 553(d).

Drafting Information: The principal author of this document is Robert Ruhf, Regulations Division, Bureau of Alcohol, Tobacco and Firearms.

List of Subjects

27 CFR Part 20

Administrative practice and procedure, Advertising, Alcohol and alcoholic beverages, Authority delegations (Government agencies), Chemicals, Claims, Cosmetics, Excise taxes, Packaging and containers, Reporting and recordkeeping requirements, Security measures, Surety bonds, Transportation.

27 CFR Part 21

Administrative practice and procedure, Alcohol and alcoholic beverages, Authority delegations (Government agencies), Chemicals, Packaging and containers, Transportation.

27 CFR Part 22

Administrative practice and procedure, Alcohol and alcoholic beverages, Authority delegations (Government agencies), Claims, Excise taxes, Packaging and containers, Reporting and recordkeeping requirements, Security measures, Science and technology, Surety bonds, Transportation.

Authority and Issuance

Title 27, Code of Federal Regulations is amended as follows:

PART 20—DISTRIBUTION AND USE OF DENATURED ALCOHOL AND RUM

Paragraph 1. The authority citation for part 20 continues to read as follows:

Authority: 20 U.S.C. 5001, 5206, 5214, 5271-5275, 5311, 5552, 5555, 5607, 6065, 7805.

Par. 2. Section 20.11 is amended by removing the definitions of “Area supervisor”, “ATF Officer”, “Region”, and “Regional director (compliance)”, by adding a new definition of “Appropriate ATF officer”, and by revising the definition of “Bulk conveyance” to read as follows:

§ 20.11 Meaning of Terms.

* * * * *

Appropriate ATF Officer. An officer or employee of the Bureau of Alcohol, Tobacco and Firearms (ATF) authorized to perform any functions relating to the administration or enforcement of this part by ATF Order 1130.9, Delegation Order—Delegation of the Director's Authorities in 27 CFR Parts 20, 21 and 22.

* * * * *

Bulk conveyance. Any tank car, tank truck, tank ship, or tank barge, or a compartment of any such conveyance, or any other container approved by the appropriate ATF officer for the conveyance of comparable quantities of denatured spirits or articles.

* * * * *

Par. 3. In Subpart C—Administrative and Miscellaneous Provisions after the undesignated center heading “Authorities”, a new § 20.20 is added as follows:

§ 20.20 Delegations of the Director.

All of the regulatory authorities of the Director contained in this Part 20 are delegated to appropriate ATF officers. These ATF officers are specified in ATF Order 1130.9, Delegation Order—Delegation of the Director's Authorities in 27 CFR Parts 20, 21 and 22. ATF delegation orders, such as ATF Order 1130.9, are available to any interested person by mailing a request to the ATF Distribution Center, P.O. Box 5950, Springfield, Virginia 22150-5950, or by accessing the ATF web site (http://www.atf.treas.gov/).

§§ 20.21, 20.22, 20.23, 20.48, 20.91, 20.92, 20.100, 20.103, 20.111, 20.144, 20.177, 20.211, 20.245 and 20.246 [Amended]

Par. 4. Part 20 is further amended by removing the word “Director” each place it appears and adding, in its place, the words “appropriate ATF officer” in the following places:

(a) Section 20.21(a);

(b) Section 20.22(a)(2), (3) and (4), and (c);

(c) Section 20.23;

(d) Section 20.48(b) and (c);

(e) Section 20.91(a) and (c);

(f) Section 20.92(a) and (b);

(g) Section 20.100(a) introductory text;

(h) Section 20.103;

(i) Section 20.111;

(j) Section 20.144;

(k) Section 20.178(c)(1);

(l) Section 20.211(b);

(m) Section 20.245; and

(n) Section 20.246.

Par. 5. Section 20.21 is further amended by adding a sentence at the end of paragraph (a) and revising paragraph (b) to read as follows:

§ 20.21 Forms prescribed.

(a) * * * The form will be filed in accordance with the instructions for the form.

(b) Forms may be requested from the ATF Distribution Center, P.O. Box 5950, Springfield, Virginia 22150-5950, or by accessing the ATF web site (http://www.atf.treas.gov/).

Par. 6. The first and second sentences of § 20.22(a)(1) are revised to read as follows:

§ 20.22 Alternate methods or procedures; and emergency variations from requirements.

(a) Alternate methods or procedures—(1) Application. A permittee, after receiving approval from the appropriate ATF officer, may use an alternate method or procedure (including alternate construction or equipment) in lieu of a method or procedure prescribed by this part. A permittee wishing to use an alternate method or procedure may apply to the appropriate ATF officer. * * *

* * * * *

§ 20.22; 20.24, 20.26, 20.28, 20.41, 20.42, 20.43, 20.44, 20.48, 20.50, 20.51, 20.56, 20.57, 20.60, 20.61, 20.62, 20.63, 20.64, 20.68, 20.72, 20.74, 20.79, 20.80, 20.82, 20.132, 20.133, 20.134, 20.161, 20.163, 20.164, 20.181, 20.202, 20.204, 20.205, 20.213, 20.234, 20.235, 20.252, 20.261, 20.262, 20.263 and 20.265 [Amended]

Par. 7. Part 20 is further amended by removing the words “regional director (compliance)” each place it appears and adding, in substitution, the words “appropriate ATF officer” in the following places:

(a) Section 20.22(b)(1), (2) and (3);

(b) Section 20.24;

(c) Section 20.26;

(d) Section 20.28(b);

(e) Section 20.41(c) introductory text;

(f) Section 20.42(a)(11) and (b);

(g) Section 20.43(a) introductory text;

(h) Section 20.44 introductory text;

(i) Section 20.48(b);

(j) Section 20.50;

(k) Section 20.51 introductory text;

(l) Section 20.56(a)(1), (b) and (c)(1) and (3);

(m) Section 20.57(b)(1) and (2);

(n) Section 20.60;

(o) Section 20.61;

(p) Section 20.62(a);

(q) Section 20.63(a);

(r) Section 20.64;

(s) Section 20.68(a) introductory text;

(t) Section 20.72(b);

(u) Section 20.74;

(v) Section 20.79;

(w) Section 20.80;

(x) Section 20.82;

(y) Section 20.132(c);

(z) Section 20.133(a) introductory text and (b);

(aa) Section 20.134(c);

(bb) Section 20.161(c)(3);

(cc) Section 20.163(c)(2);

(dd) Section 20.164(e);

(ee) Section 20.181(a);

(ff) Section 20.202(a);

(gg) Section 20.204(b);

(hh) Section 20.205(f);

(ii) Section 20.213(a) and (b);

(jj) Section 20.234(b)(3);

(kk) Section 20.235(c);

(ll) Section 20.252(a);

(mm) Section 20.261;

(nn) Section 20.262(d);

(oo) Section 20.263(d); and

(pp) Section 20.265(b).

Par. 8. Section 20.22(c) is amended by removing the phrase “or the regional director (compliance)” each place it appears.

Par. 9. Section 20.25 is revised to read as follows:

§ 20.25 Permits.

The appropriate ATF officer must issue permits for the United States or a Governmental agency as provided in § 20.241 and industrial alcohol user permits, Form 5150.9, required under this part.

§ 20.27, 20.28, 20.37, 20.117, 20.166, 20.170, 20.213, 20.261, 20.262, 20.263 and 20.265 [Amended].

Par. 10. Part 20 is further amended by adding the word “appropriate” before the words “ATF officer” or “ATF officers” each place it appears in the following places:

(a) Section 20.27;

(b) Section 20.28(a);

(c) Section 20.37;

(d) Section 20.117(d)(2)(iv);

(e) Section 20.166;

(f) Section 20.170;

(g) Section 20.213(b);

(h) Section 20.261;

(i) Section 20.262(c);

(j) Section 20.263(c); and

(k) Section 20.265(a) introductory text.

Par. 11. The last sentence of § 20.45(c)(1) is revised to read as follows:

§ 20.45 Organizational Documents.

* * * * *

(c) Statement of interest. (1) * * * If a corporation is wholly owned or controlled by another corporation, persons owning 10% or more of each of the classes of stock of the parent corporation are considered to be the persons interested in the business of the subsidiary, and the names and addresses of such persons must be submitted to the appropriate ATF officer if specifically requested.

* * * * *

§§ 20.53 and 20.205 [Amended]

Par. 12. Part 20 is further amended by removing the phrase “with the regional director (compliance)” each place it appears in the following places:

(a) Section 20.53; and

(b) Section 20.205 introductory text.

Par. 13. The first sentence of § 20.62(a) is amended to remove the phrase “within the same region”.

Par. 14. Paragraph (c) of § 20.92 is revised to read as follows:

§ 20.92 Samples.

* * * * *

(c) The appropriate ATF officer may, at any time, require submission of samples of:

(1) Any ingredient used in the manufacture of an article, or;

(2) Any article.

* * * * *

Par. 15. Paragraph (a) of § 20.95 is amended to remove the phrase “on request by the Director”.

Par. 16. Paragraph (b) of § 20.100 is revised to read as follows:

§ 20.100 General.

* * * * *

(b) Approval by the appropriate ATF officer of formulas, samples, or statements of process means only that they meet the standards of the Bureau of Alcohol, Tobacco and Firearms. The approval does not require the issuance of a permit under subpart D of this part to withdraw and use specially denatured spirits in those formulas, articles, or statements of process.

* * * * *

Par. 17. Paragraph (d)(2)(v) of § 20.117 is amended by removing the phrase “which may be conditions of approval by the regional director (compliance)”.

Par. 18. Paragraph (b)(1)(ii) of § 20.134 is amended by removing the phrase “regional director (compliance) of the region where the manufacturing site is located” and adding in substitution, the words “appropriate ATF officer”.

Par. 19. Paragraph (b) of § 20.147 is amended by removing the word “Director's” and adding, in substitution, the words “appropriate ATF officer's.”

Par. 20. Paragraph (e) of § 20.189 is amended by removing the phrase “by the Director” and adding, in substitution, the phrase “in accordance with subpart F of this part”.

Par. 21. Section 20.190 is revised to read as follows:

§ 20.190 Diversion of articles for internal human use or beverage use.

An appropriate ATF officer who has reason to believe that the spirits in any article are being reclaimed or diverted to beverage or internal human use may direct the permittee to modify an approved formula to prevent the reclamation or diversion. The appropriate ATF officer may require the permittee to discontinue the use of the formula until it has been modified and again approved.

Par. 22. The second sentence of § 20.241 is amended to remove the phrase “from the Director” and adding, in substitution, the phrase “as provided in § 20.25”.

Par. 23. The first sentence of § 20.242(b) is amended by removing the phrase “to the Director” and the preceding comma.

§§ 20.244 and 20.252 [Amended]

Par. 24. Part 20 is further amended by removing the phrase “regional director (compliance) of the region” and adding in substitution, the words “appropriate ATF officer” each place it appears in the following places:

(a) Section 20.244; and (b) Section 20.252(b).

Par. 25. The first sentence of § 20.251 is amended by removing the phrase “for submission on request by the Director” and adding, in substitution, the phrase “as required by § 20.92”.

Par. 26. The first sentence of paragraph (a) of § 20.267 is amended by removing the phrase “submitted to the regional director (compliance)” and adding, in substitution, the phrase “as required by this part”.

Par. 27. The second sentence of paragraph (a) of § 20.267 is amended by removing the words “regional director (compliance)” and adding, in substitution, the words “appropriate ATF officer”.

PART 21—FORMULAS FOR DENATURED ALCOHOL AND RUM

Par. 28. The authority citation for part 21 continues to read as follows:

Authority: 5 U.S.C. 552(a); 26 U.S.C. 5242, 7805.

§§ 21.2, 21.3, 21.5, 21.31 and 21.91 [Amended]

Par. 29. Part 21 is further amended by removing the word “Director” each place it appears and adding, in its place, the words “appropriate ATF officer” in the following places:

(a) Section 21.2(a);

(b) Section 21.3(d);

(c) Section 21.5 introductory text;

(d) Section 21.31(b); and

(e) Section 21.91.

Par. 30. Section 21.2 is further amended by adding a sentence at the end of paragraph (a) and revising paragraph (b) to read as follows:

§ 21.2 Forms prescribed.

(a) * * * The form will be filed in accordance with the instructions for the form.

(b) Forms may be requested from the ATF Distribution Center, P.O. Box 5950, Springfield, Virginia 22150-5950, or by accessing the ATF web site (http://www.atf.treas.gov/).

21.3, 21.21, 21.31, 21.33, 21.34, 21.56 and 21.65 [Amended]

Par. 31. Part 21 is further amended by removing the words “Chief, Chemical Branch” each place it appears and, in substitution, adding the words “appropriate ATF officer” in the following places:

(a) Section 21.3(b);

(b) Section 21.21(b) and (c);

(c) Section 21.31(c);

(d) Section 21.33(c);

(e) Section 21.34(c);

(f) Section 21.56(a);

(g) Section 21.65(a);

Par. 32. Paragraph (c) of § 21.3 is revised to read as follows:

§ 21.3 Stocks of discontinued formulas.

* * * * *

(c) On approval of an application, filed with the appropriate ATF officer and approved by such officer, destroy those stocks under whatever supervision the appropriate ATF officer requires; or

* * * * *

Par. 33. Paragraph (d) of § 21.3 is further amended by removing the phrases “to be filed with the regional director (compliance) for transmittal to the Director” and the parentheses at the beginning and ending of these phrases.

Par. 34. In Subpart A—General Provisions, a new § 21.7 is added as follows:

§ 21.7 Delegations of the Director.

All of the regulatory authorities of the Director contained Part 21 of the regulations are delegated to appropriate ATF officers. These ATF officers are specified in ATF Order 1130.9, Delegation Order—Delegation of the Director's Authorities in 27 CFR Parts 20, 21 and 22. ATF delegation orders, such as ATF Order 1130.9, are available to any interested person by mailing a request to the ATF Distribution Center, PO Box 5950, Springfield, Virginia 22150-5950, or by accessing the ATF web site ((http://www.atf.treas.gov/).

Par. 35. Section 21.11 is amended by removing the definitions of “Chief, Chemical Branch” and “Regional director (compliance)” and adding a new definition of “Appropriate ATF officer” to read as follows:

§ 21.11 Meaning of Terms.

* * * * *

Appropriate ATF Officer. An officer or employee of the Bureau of Alcohol, Tobacco and Firearms (ATF) authorized to perform any functions relating to the administration or enforcement of this part by ATF Order 1130.9, Delegation Order—Delegation of the Director's Authorities in 27 CFR Parts 20, 21 and 22.

* * * * *

Par. 36. Footnote 1 of § 21.141 is amended by removing the phrase “by the Chief, Chemical Branch”.

PART 22—DISTRIBUTION AND USE OF TAX-FREE ALCOHOL

Par. 37. The authority citation continues to read as follows:

Authority: 26 U.S.C. 5001, 5121,5142, 5143, 5146, 5206, 5214, 5271-5276, 5311, 5552, 5555, 6056, 6061, 6065, 6109, 6151, 6806, 7011, 7805; 31 U.S.C. 9304, 9306.

Par. 38. Section 22.11 is amended by removing the definitions of “Area supervisor”, “ATF officer”, “Delegate”, “Region” and “Regional director (compliance)” and adding a new definition of “Appropriate ATF officer” as to read as follows:

§ 22.11 Meaning of Terms.

* * * * *

Appropriate ATF Officer. An officer or employee of the Bureau of Alcohol, Tobacco and Firearms (ATF) authorized to perform any functions relating to the administration or enforcement of this part by ATF Order 1130.9, Delegation Order—Delegation of the Director's Authorities in 27 CFR Parts 20, 21 and 22.

* * * * *

Par. 39. In Subpart C—Administrative Provisions after the undesignated center heading “Authorities”, a new § 22.20 is added as follows:

§ 22.20 Delegations of the Director.

All of the regulatory authorities of the Director contained in this Part 22 are delegated to appropriate ATF officers. These ATF officers are specified in ATF Order 1130.9, Delegation Order—Delegation of the Director's Authorities in 27 CFR Parts 20, 21 and 22. ATF delegation orders, such as ATF Order 1130.9, are available to any interested person by mailing a request to the ATF Distribution Center, PO Box 5950, Springfield, Virginia 22150-5950, or by accessing the ATF web site ((http://www.atf.treas.gov/).

§ 22.21, 22.22, 22.24, 22.171, 22.175 and 22.176 [Amended]

Par. 40. Part 22 is further amended by removing the word “Director” each place it appears and adding, in its place, the words “appropriate ATF officer” in the following places:

(a) Section 22.21(a);

(b) Section 22.22(a)(2),(3) and (4);

(c) Section 22.24(a);

(d) Section 22.171(a);

(e) Section 22.175; and

(f) Section 22.176(c).

Par. 41. Section 22.21 is further amended by adding a sentence at the end of paragraph (a) and revising paragraph (b) to read as follows:

§ 22.21 Forms prescribed.

(a) * * * The form will be filed in accordance with the instructions for the form.

(b) Forms may be requested from the ATF Distribution Center, P.O. Box 5950, Springfield, Virginia 22150-5950, or by accessing the ATF web site (http://www.atf.treas.gov/).

Par. 42. The first two sentences of § 22.22(a)(1) and paragraph (c) of § 22.22 are revised to read as follows:

§ 22.22 Alternate methods or procedures; and emergency variations from requirements.

(a) Alternate methods or procedures—(1) Application. A permittee, after receiving approval from the appropriate ATF officer, may use an alternate method or procedure (including alternate construction or equipment) in lieu of a method or procedure prescribed by this part. A permittee wishing to use an alternate method or procedure may apply to the appropriate ATF officer. * * *

* * * * *

(c) Withdrawal of approval. The appropriate ATF officer may withdraw approval for an alternate method or procedure or an emergency variation from requirements, approved under paragraph (a) or (b) of this section, if the appropriate ATF officer finds that the revenue is jeopardized or the effective administration of this part is hindered by the approval.

* * * * *

§§ 22.22, 22.23, 22.24, 22.25, 22.27, 22.41, 22.42, 22.42, 22.43, 22.44, 22.45, 22.50, 22.51, 22.57, 22.58, 22.61, 22.62, 22.63, 22.64, 22.68, 22.72, 22.74, 22.79, 22.80, 22.82, 22.102, 22.103, 22.111, 22.113, 22.122, 22.124, 22.125, 22.154, 22.162 and 22.164 [Amended]

Par. 43. Part 22 is further amended by removing the words “regional director (compliance)” each place it appears and adding, in substitution, the words “appropriate ATF officer” in the following places:

(a) Section 22.22(b)(1), (2) and (3);

(b) Section 22.23;

(c) Section 22.24(b);

(d) Section 22.25;

(e) Section 22.27(b);

(f) Section 22.41(b);

(g) Section 22.42(a)(11);

(h) Section 22.42(b);

(i) Section 22.43(a) introductory text;

(j) Section 22.44 introductory text;

(k) Section 22.45(c)(1);

(l) Section 22.50;

(m) Section 22.51 introductory text;

(n) Section 22.57(a)(1), (b) and (c)(1) and (3);

(o) Section 22.58(b)(1) and (2);

(p) Section 22.61;

(q) Section 22.62;

(r) Section 22.63(a);

(s) Section 22.64;

(t) Section 22.68(a);

(u) Section 22.72(b);

(v) Section 22.74;

(w) Section 22.79;

(x) Section 22.80;

(y) Section 22.82;

(z) Section 22.102(c) introductory text;

(aa) Section 22.103;

(bb) Section 22.111(c)(3);

(cc) Section 22.113(a)(1);

(dd) Section 22.122(a);

(ee) Section 22.124(b);

(ff) Section 22.125(c);

(gg) Section 22.154(b)(3);

(hh) Section 22.162; and

(ii) Section 22.164(a).

§§ 22.26, 22.27, 22.36, 22.39, 22.113, 22.142 and 22.161 [Amended]

Par. 44. Part 22 is further amended by adding the word “appropriate” before the words “ATF officer” or “ATF officers” each place it appears in the following places:

(a) Section 22.26;

(b) Section 22.27(a);

(c) Section 22.36;

(d) Section 22.39(c);

(e) Section 22.113(c);

(f) Section 22.142(a) and (c); and

(g) Section 22.161(a) and (d).

Par. 45. The last sentence of § 22.45(c)(1) is revised to read as follows:

§ 22.45 Organizational Documents.

* * * * *

(c) Statement of interest. (1) * * * If a corporation is wholly owned or controlled by another corporation, persons owning 10% or more of each of the classes of stock of the parent corporation are considered to be the persons interested in the business of the subsidiary, and the names and addresses of such persons must be submitted to the appropriate ATF officer if specifically requested.

* * * * *

§§ 22.53 and 22.125 [Amended]

Par. 46. Part 22 is further amended by removing the phrase “with the regional director (compliance)” each place it appears in the following places:

(a) Section 22.53; and

(b) Section 22.125(a) introductory text.

§ 22.142 [Amended]

Par. 47. Part 22 is further amended by removing the words “area supervisor” each place it appears and adding, in substitution, the words “appropriate ATF officer” in the following places:

(a) Section 22.142(a), (c) and (d).

Par. 48. The first sentence of § 22.63(a) is amended by removing the phrase “within the same region'.

Par. 49. The first sentence of § 22.172(b) is amended by removing the phrase “to the Director'.

Par. 50. The second sentence of § 22.174 is amended by removing the words “regional director (compliance) of the region from which the shipment was consigned” and adding, in substitution, the words “appropriate ATF officer.”

Signed: July 13, 2000.
Bradley A, Buckles,
Director.
Approved: August 1, 2000.
John P. Simpson,
Deputy Assistant Secretary (Regulatory, Tariff and Trade Enforcement).

[FR Doc. 01-1163 Filed 1-18-01; 8:45 am]

BILLING CODE 4810-31-P